DEPARTMENT OF THE TREASURY

Bureau of Alcohol, Tobacco and Firearms

[Docket No. 922; ATF 0 1130.9]

Delegation Order—Delegation of the Director's Authorities in 27 CFR Parts 20, 21 and 22

To: All Bureau Supervisors.

1. Purpose. This order delegates certain authorities of the Director to subordinate ATF officials and prescribes the subordinate ATF officials with whom persons file documents which are not ATF forms.

2. Background. Under current regulations, the Director has authority to take final action on matters relating to distilled spirits plants. The Bureau has determined that certain of these authorities should, in the interest of efficiency, be delegated to a lower organizational level.

3. Cancellation. ATF O 1100.67D, Delegation Order—Delegation to the Comptroller of Authorities of the Director in 27 CFR Part 20, Distribution and Use of Denatured Alcohol and Rum, ATF O 1100.91C, Delegation Order—Delegation to the Associate Director (Compliance Operations) of Authorities of the Director in 27 CFR Part 20, Distribution and Use of Denatured Alcohol and Rum, ATF O 1100.90A, Delegation Order—Delegation to the Associate Director (Compliance Operations) of Authorities of the Director in 27 CFR Part 21, Formulas for Denatured Alcohol and Rum, and ATF O 1100.87B, Delegation Order—Delegation to the Associate Director (Compliance Operations) of Authorities of the Director in 27 CFR Part 22, Distribution and Use of Tax-Free Alcohol, are canceled.

4. Delegations. Under the authority vested in the Director, Bureau of Alcohol, Tobacco and Firearms, by Treasury Department Order No. 120-01 (formerly 221), dated June 6, 1972, and by 26 CFR 301.7701-9, this ATF order delegates certain authorities to take final action prescribed in 27 CFR Parts 20, 21 and 22 to subordinate officials. Also, this ATF order prescribes the subordinate officials with whom applications, notices, and reports required by 27 CFR Parts 20, 21 and 22, which are not ATF forms, are filed. The attached table identifies the regulatory sections, authorities and documents to be filed, and the authorized ATF officials. The authorities in the table may not be redelegated. An ATF organization chart showing the directorates involved in this delegation order has been attached.

5. Questions. If you have questions about this ATF order, contact the Regulations Division (202-927-8210).

Bradley A. Buckles,
Director.

Table of Authorities, Documents To Be Filed, and Authorized Officials
Regulatory section | Officer(s) authorized to act or receive document
20.11—Bulk Conveyance | Chief, National Revenue Center (NRC), to approve other containers for bulk quantities upon recommendation of Area Supervisor or Chief, Puerto Rico Operations.
20.21(a) | Chief, Regulations Division.
20.22(a) | Chief, Regulations Division. If the alternate method does not affect an ATF approved formula, or import or export recordkeeping, Chief, NRC, may act upon the same alternate method that has been approved by the Chief,Regulations Division.
20.22(b) | Director of Industry Operations.
20.22(c) | Chief, Regulations Division, to withdraw an alternate procedure or method or Director of Industry Operations to withdraw an emergency variation.
20.23 | Chief, Nonbeverage Products Sections.
20.24 | Section Chief, NRC, to act on claims of more than $5,000 of tax.
20.24 | Unit Supervisor, NRC, to notify claimant of $5,000 or less of tax.
20.25 | Unit Supervisor, NRC, (by affixing the signature of the Director) upon the recommendation of the Area Supervisor for a permit other than in Puerto Rico.
20.25 | Chief, Puerto Rico Operations (by affixing the signature of the Director) for a permit in Puerto Rico.
20.26 | Chief, Puerto Rico Operations, or Unit Supervisor, NRC.
20.27 | Inspector, Specialist or Special Agent.
20.28(a) | Inspector, Specialist or Special Agent.
20.28(b) | Director of Industry Operations.
20.37 | Inspector, Specialist or Special Agent.
20.40(c) | Inspector, Specialist or Special Agent.
20.41(c) | Unit Supervisor, NRC, or Chief, Puerto Rico Operations.
20.42 (a)(11) | Chief, Puerto Rico Operations, Area Supervisor, or Unit Supervisor, NRC.
20.42(b) | Chief, Puerto Rico Operations, or Unit Supervisor, NRC.
20.43(a) | Unit Supervisor, NRC, or Chief, Puerto Rico Operations.
20.44 | Director of Industry Operations.
20.45(c)(1) | Area Supervisor, Chief, Puerto Rico Operations, or Unit Supervisor, NRC.
20.47(c) | Inspector, Specialist or Special Agent.
20.48(b) and (c) | Chief, Nonbeverage Products Section, to approve formulas and statements of process.
20.48(b) | Unit Supervisor, NRC, (by affixing the signature of the Director) upon the recommendation of the Area Supervisor for a permit other than in Puerto Rico, or Chief, Puerto Rico Operations.
20.48(b) | Chief, Puerto Rico Operations (by affixing the signature of the Director) for a permit in Puerto Rico.
20.50 | Unit Supervisor, NRC, or Chief, Puerto Rico Operations.
20.51 | Director of Industry Operations.
20.56(a)(1) | Unit Supervisor, NRC, or Chief, Puerto Rico Operations.
20.56(b) and (c)(1) | Unit Supervisor, NRC, Area Supervisor or Chief, Puerto Rico Operations.
20.56(c)(3) | Unit Supervisor, NRC, or Chief, Puerto Rico Operations.
20.57(b)(1) and (2) | Unit Supervisor, NRC, or Chief, Puerto Rico Operations.
20.60 | Unit Supervisor, NRC, (by affixing the signature of the Director) upon the recommendation of the Area Supervisor for a permit other than in Puerto Rico, or Chief, Puerto Rico Operations.
20.60 | Chief, Puerto Rico Operations (by affixing the signature of the Director) for a permit in Puerto Rico.
20.61 | Unit Supervisor, NRC, (by affixing the signature of the Director) upon the recommendation of the Area Supervisor for a permit other than in Puerto Rico, or Chief, Puerto Rico Operations.
20.61 | Chief, Puerto Rico Operations (by affixing the signature of the Director) for a permit in Puerto Rico.
20.62(a) | Unit Supervisor, NRC, (by affixing the signature of the Director) upon the recommendation of the Area Supervisor for a permit other than in Puerto Rico, or Chief, Puerto Rico Operations.
20.62(a) | Chief, Puerto Rico Operations (by affixing the signature of the Director) for a permit in Puerto Rico.
20.63(a) | Unit Supervisor, NRC, or Chief, Puerto Rico Operations.
20.64 | Unit Supervisor, NRC, or Chief, Puerto Rico Operations.
20.68(a) | Unit Supervisor, NRC, or Chief, Puerto Rico Operations.
20.72(b) | Unit Supervisor, NRC, or Chief, Puerto Rico Operations.
20.74 | Unit Supervisor, NRC, or Chief, Puerto Rico Operations.
20.79 | Unit Supervisor, NRC, or Chief, Puerto Rico Operations.
20.80 | Unit Supervisor, NRC, or Chief, Puerto Rico Operations.
20.82 | Unit Supervisor, NRC, or Chief, Puerto Rico Operations.
20.91(a) | Chief, Regulations Division.
20.91(c) | Chief, Nonbeverage Products Section.
20.92 (a) & (b) | Chief, Nonbeverage Products Section.
20.92(c) | Chief, Nonbeverage Products Section, Chief, Puerto Rico Operations, and Area Supervisor.
20.100 | Chief, Nonbeverage Products Section.
20.103 | Chief, Nonbeverage Products Section.
20.111 | Chief, Regulations Division.
20.117(d)(2)(iv) | Inspector, Specialist or Special Agent.
20.117(d)(2)(v) | Chief, Puerto Rico Operations, and Area Supervisor.
20.132(c) | Director of Industry Operations.
20.133 | Director of Industry Operations.
20.134(b)(1)(ii) | Unit Supervisor, NRC, or Chief, Puerto Rico Operations.
20.134(c) | Area Supervisor or Chief, Puerto Rico Operations.
20.134(c) | Chief, Puerto Rico Operations.
20.144 | Chief, Regulations Division.
20.147(b) | Chief, Nonbeverage Products Section.
20.161(c)(3) | Unit Supervisor, NRC, or Chief, Puerto Rico Operations.
20.163(c)(2) | Unit Supervisor, NRC, or Chief, Puerto Rico Operations.
20.164(e) | Area Supervisor or Chief, Puerto Rico Operations.
20.166 | Inspector, Specialist or Special Agent.
20.170 | Inspector, Specialist or Special Agent.
20.178(c) | Unit Supervisor, NRC, or Chief, Puerto Rico Operations.
20.181(a) | Unit Supervisor, NRC, or Chief, Puerto Rico Operations.
20.190 | Area Supervisor or Chief, Puerto Rico Operations.
20.202(a) | Area Supervisor or Chief, Puerto Rico Operations.
20.204(b) | Area Supervisor or Chief, Puerto Rico Operations.
20.205(f) | Area Supervisor, Chief, Puerto Rico Operations, or Unit Supervisor, NRC.
20.211(b) | Chief, Nonbeverage Products Section.
20.213(a) | Area Supervisor or Chief, Puerto Rico Operations.
20.213(b) | Director of Industry Operations to require supervision.
20.213(b) | Inspector, Specialist or Special Agent to supervise redenaturation.
20.234(b) | Unit Supervisor, NRC, or Chief, Puerto Rico Operations.
20.235(c) | Area Supervisor or Chief, Puerto Rico Operations.
20.244 | Area Supervisor or Chief, Puerto Rico Operations.
20.245 | Unit Supervisor, NRC, or Chief, Puerto Rico Operations.
20.246 | Area Supervisor or Chief, Puerto Rico Operations.
20.252(a) | Unit Supervisor, NRC, or Chief, Puerto Rico Operations.
20.252(b) | Chief, Puerto Rico Operations, or Unit Supervisor, NRC.
20.261 | Area Supervisor or Chief, Puerto Rico Operations to request records.
20.261 | Inspector, Specialist or Special Agent to verify and trace records and to determine compliance.
20.262(c) | Inspector, Specialist or Special Agent.
20.262(d) | Area Supervisor, Chief, Puerto Rico Operations or Unit Supervisor, NRC.
20.263(c) | Inspector, Specialist or Special Agent.
20.263(d) | Area Supervisor, Chief, Puerto Rico Operations or Unit Supervisor, NRC.
20.265(a) | Inspector, Specialist or Special Agent.
20.265(b) | Area Supervisor upon recommendation of Unit Supervisor,NRC.
20.265(b) | Chief, Puerto Rico Operations.
20.267(a) | Inspector, Specialist or Special Agent to inspect records and reports.
20.267(a) | Director of Industry Operations to require additional 3 years for records and reports.
20.267(c) | Inspector, Specialist or Special Agent.
21.2(a) | Chief, Regulations Division.
21.3(b) | Chief, Nonbeverage Products Section.
21.3(c) | Area Supervisor or Chief, Puerto Rico Operations.
21.3(d) | Chief, Regulations Division.
21.5 | Chief, Regulations Division.
21.21(b) and (c) | Chief, Nonbeverage Products Section.
21.31(b) | Chief, Regulations Division.
21.31(c) | Chief, Nonbeverage Products Section.
21.33(c) | Chief, Nonbeverage Products Section.
21.34(c) | Chief, Nonbeverage Products Section.
21.56(a) | Chief, Nonbeverage Products Section.
21.65(a) | Chief, Nonbeverage Products Section.
21.91 | Chief, Nonbeverage Products Section.
21.141 footnote 1 | Chief, Nonbeverage Products Section.
22.21(a) | Chief, Regulations Division.
22.22(a) | Chief, Regulations Division. If the alternate method does not affect an ATF approved formula, or import or export recordkeeping, Chief, NRC, may act upon the same alternate method that has been approved by the Chief, Regulations Division.
22.22(b) | Director of Industry Operations.
22.22(c) | Chief, Regulations Division, to withdraw alternate method or procedure or Director of Industry Operations to withdraw emergency variation.
22.23 | Section Chief, NRC, to act on claims of more than $5,000 of tax by affixing the signature of the Director.
22.23 | Unit Supervisor, NRC, to notify claimant of $5,000 or less of tax by affixing the signature of the Director.
22.24 | Unit Supervisor, NRC, (by affixing the signature of the Director) upon the recommendations of the Area Supervisor for a permit other than in Puerto Rico.
22.24 | Chief, Puerto Rico Operations (by affixing the signature of the Director) for a permit in Puerto Rico.
22.25 | Unit Supervisor, NRC.
22.26 | Inspector, Special Agent or Specialist.
22.27(a) | Inspector, Special Agent or Specialist.
22.27(b) | Director of Industry Operations.
22.36 | Inspector, Special Agent or Specialist.
22.39(c) | Inspector, Special Agent or Specialist.
22.41(b) | Unit Supervisor, NRC.
22.42(a)(11) | Area Supervisor or Unit Supervisor, NRC.
22.42(b) | Unit Supervisor, NRC.
22.43 | Unit Supervisor, NRC.
22.44 | Director of Industry Operations.
22.45(c)(1) | Area Supervisor or Unit Supervisor, NRC.
22.50 | Unit Supervisor, NRC.
22.51 | Director of Industry Operations.
22.57(a) | Unit Supervisor, NRC.
22.57(b) and (c)(1) | Area Supervisor or Unit Supervisor, NRC.
22.57(c)(3) | Unit Supervisor, NRC.
22.58(b)(1) and (b)(2) | Unit Supervisor, NRC.
22.61 | Unit Supervisor, NRC upon the recommendation of the Area Supervisor.
22.62 | Unit Supervisor, NRC upon the recommendation of the Area Supervisor.
22.63(a) | Unit Supervisor, NRC upon the recommendation of the Area Supervisor.
22.64 | Unit Supervisor, NRC.
22.68(a) | Unit Supervisor, NRC.
22.72(b) | Area Supervisor or Unit Supervisor, NRC.
22.74 | Area Supervisor or Unit Supervisor, NRC.
22.79 | Area Supervisor or Unit Supervisor, NRC.
22.80 | Unit Supervisor, NRC.
22.82 | Unit Supervisor, NRC.
22.102(c) | Unit Supervisor, NRC upon the recommendation of the Area Supervisor.
22.103 | Unit Supervisor, NRC upon the recommendation of the Area Supervisor.
20.111(c)(3) | Unit Supervisor, NRC upon the recommendation of the Area Supervisor.
22.113(a)(1) | Area Supervisor.
22.113(c) | Inspector, Special Agent or Specialist.
22.122(a) | Area Supervisor.
22.124(b) | Area Supervisor.
22.125(c) | Area Supervisor or Unit Supervisor, NRC.
22.142(a)(1) | Area Supervisor to receive notice.
22.142(a)(2) | Inspector, Special agent or Specialist on premises to supervise or to transmit notice to Area Supervisor.
22.142(c) | Inspector, Special Agent or Specialist to supervise or Area Supervisor to advise permittee.
22.142(d) | Inspector, Special Agent or Specialist.
22.152(a) | Area Supervisor.
22.154(b)(3) | Unit Supervisor, NRC.
22.155(a) | Area Supervisor.
22.161(a) and (d) | Inspector, Special Agent or Specialist.
22.162 | Unit Supervisor, NRC.
22.164(a) | Director of Industry Operations.
22.171(a) | Unit Supervisor, NRC.
22.174 | Area Supervisor.
22.175 | Unit Supervisor, NRC.
22.176 | Chief, Regulations Division.

BILLING CODE 4810-31-P

[FR Doc. 01-16816 Filed 7-3-01; 8:45 am]

BILLING CODE 4810-31-C